DEPARTMENT OF TRANSPORTATION

Federal Aviation Administration

Public Notice for Waiver of Aeronautical Land-Use Assurance; Oakland County International Airport; Pontiac, MI

AGENCY: Federal Aviation Administration, DOT.

ACTION: Notice of intent of waiver with respect to land.

SUMMARY: The Federal Aviation Administration (FAA) is considering a proposal to change a portion of the airport from aeronautical use to non-aeronautical use and to authorize the sale of the airport property. The proposal consists of 14 parcels of land totaling approximately 3.981 acres. Current use and present condition is vacant grassland. The land is zoned residential. The land was acquired under FAA Project Nos. 3-26-0079-0694, C-26-0079-0795, B-26-0079-1397, 3-26-SBGP-1098, and 3-26-SBGP-1799, and 3-26-SBGP-1999. There are no impacts to the airport by allowing the airport to dispose of the property. This land is to be sold for proposed use to accommodate the relocation of Williams Lake Road, which will provide a fully compliant runway safety area for Runway 9R. Approval does not constitute a commitment by the FAA to financially assist in the disposal of the subject airport property nor a determination of eligibility for grant-in-aid funding from the FAA. The disposition of proceeds from the disposal of the airport property will be in accordance FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be receive on or before July 5, 2005.

FOR FURTHER INFORMATION CONTACT: Mr. Lawrence C. King, Project Manager, Federal Aviation Administration, Great Lakes Region, Detroit Airports District Office, DET ADO 607, 11677 South Wayne Road, Romulus, Michigan 48174. Telephone Number (734) 229-2933/FAX Number (734) 229-2950. Documents reflecting this FAA action may be reviewed at this same location or at Oakland County International Airport, Pontiac, Michigan.

SUPPLEMENTARY INFORMATION: Following is a legal description of the property located in Pontiac, Oakland County, Michigan, and described as follows:

Parcel 130 (Lot 7 (Partial))

A Right Of Way Acquisition being a part of Lot 7 of “Supervisor's Plat No. 59” being a part of the Southwest ¼ of Section 18, T3N, R9E, Waterford Township, Oakland County, Michigan, and a replat of Lot 18 of “Supervisor's Plat No. 36” of part of the Southwest ¼ of Section 18, T3N, R9E, Waterford Township, Oakland County, Michigan, as recorded in Liber 72 of Plats, Page 10, Oakland County Records, described as follows: Beginning at a point distant N 87°34′40″ W 41.66 feet from the Northeast corner of said Lot 7; thence along a curve to the right 51.76 feet, said curve having a radius of 805.00 feet, a central angle of 03°41′02″, and a chord bearing S 37°38′04″ W 51.75 feet; thence N 02°42′58″ W 42.45 feet; thence S 87°34′40″ E 33.64 feet to the Point Of Beginning.

Said acquisition contains 725 square feet, or 0.02 of an acre, more or less.

Parcel 131 (Lot 10)

A Right of Way Acquisition being a part of Lot 10 of “Supervisor's Plat No. 59” being a part of the Southwest ¼ of Section 18, T3N, R9E, Waterford Township, Oakland County, Michigan, and a replat of Lot 18 of “Supervisor's Plat No. 36” of part of the Southwest ¼ of Section 18, T3N, R9E, Watership Township, Oakland County, Michigan, as recorded in Liber 72 of Plats, Page 10, Oakland County Records, described as follows: Beginning at a point distant S 87°34′40″ E 69.92 feet along the North line of said lot; thence continuing S 87°34′40″ E 5.38 feet along said lot line to the Northeast corner of said lot; thence S 02°42′42″ E 178.41 feet along the East line of said lot to the Southeast corner of said lot; thence S 87°17′20″ W 75.00 feet along the South lien of said lot and the North right of way line of Tull Court (60 feet wide) to the Southwest corner of said lot; thence N 02°42′49″ W 123.62 feet along the West line of said lot; thence along a curve to the left 88.98 feet, said curve having a radius of 655.00 feet, a central angle of 07°47′00″, and a chord bearing N 48°50′48″ E 88.91 feet of the North line of said lot and the point of Beginning. Said acquisition containing 11,401 square feet, or 0.26 of an acre, more or less.

A Grading Permit being a part of Lot 10 of “Supervisor's Plat No. 59” being a part of the Southwest ¼ of section 18, T3N, R9E, Waterford Township, Oakland County, Michigan, and a replat of Lot 18 of “Supervisor's Plat No. 36” of part of the Southwest ¼ of Section 18, T3N, R9E, Waterford Township, Oakland County, Michigan, as recorded in Liber 72 of Plats, Page 18, Oakland County Records, described as follows: Beginning at the Northwest corner of said lot; thence S 87°34′40″ E 69.92 feet along the North line of said lot; thence along a curve to the right 88.98 feet, said curve having a radius of 655.00 feet, a central angle of 07°47′00″, and a chord bearing S 48°50′48″ W 88.91 feet to the West lien of said lot; thence N 02°42′49″ W 61.53 feet to the Northwest corner of said lot and the Point of Beginning.

Said permit contains 2,232 square feet, or 0.05 of an acre, more or less.

Parce 132 (Lot 11)

A Right of Way Acquisition being a part of Lot 11 of “Supervisor's Plat No. 59” being a part of the Southwest ¼ of Section 18, T3N, R9E, Waterford Township, Oakland County, Michigan, and a replat of Lot of “Supervisor's Plat No. 36” of part of the Southwest ¼ of Section 18, T3N, R9E, Waterford Township, Oakland County, Michigan, as recorded in Liber 72 of Plats, Page 10, Oakland County Records, described as follows: Beginning at a point distant S 02°42′49″ E 61.53 feet along the East line of said lot from the Northeast corner of said lot; thence continuing S 02°42′49″ E 123.62 feet along said lot line of the Southeast corner of said lot and the North right of way line of Tull Court (60 feet wide); thence S 87°17′20″ W 75.00 feet along the South line of said lot and said right of way line to the Southwest corner of said lot; thence N 02°42′47″ W 165.98 feet along the West line of said lot; thence along a curve to the right 80.40 feet, said curve having a radius of 180.00 feet, a central angle of 25°35′28″, and a chord bearing S 61°41′47″ E 79.73 feet; thence S 86°40′54″ E 7.03 feet to the East line of said lot and the Point of Beginning.

Said acquisition containing 10,978 square feet, or 0.25 of an acre, more or less.

A Grading Permit being a part of Lot 11 of “Supervisor's Plat No. 59” being a part of the Southwest ¼ of Section 18, T3N, R9E. Waterford Township, Oakland County, Michigan, and a replat of Lot 18 of “Supervisor's Plant No. 36” of part of the Southwest ¼ of Section 18, T3N, R9E, Waterford Township, Oakland County, Michigan, as recorded in Liber 72 of Plats, Page 10, Oakland County Records, described as follows: Beginning at the Northwest corner of said lot; thence S 02°42′49″ E 61.53 feet along the East line of said lot; thence N 86°40′54″ W 7.03 feet; thence along a curve to the left, said curve having a radius of 180.00 feet, a central angle of N 61°14′47″ 79.73 feet to the West line of said lot; thence N 02°42′47″ W 25.92 feet along lot line to the Northwest corner of said lot; thence S 87°34′40″ E 75.30 feet to the Point of Beginning.

Said permit contains 3,161 square feet, or 0.07 of an acre, more or less.

Part 133 (Lot 12)

A Right of Way Acquisition being a part of Lot 12 of “Supervisor's Plat No. 59” being a part of the Southwest ¼ of Section 18, T3N, R9E, Waterford Township, Oakland County, Michigan, and a replat of Lot 18 of “Supervisor's Plat No. 36” of part of the Southwest ¼ of Section 18, T3N, R9E, Waterford Township, Oakland County, Michigan, as recorded in Liber 72 of Plats, Page 10, Oakland County Records, described as follows: Beginning at a point distant S 02°42′47″ E 25.91 feet along the east line of said lot from the Northeast corner of said lot; thence continuing S 02°47′47″ E 65.27 feet along said lot line; thence along a curve to the left 64.58 feet, said having a radius of 120.00 feet, a central angel of 30°49′59″, and a chord bearing N 79°25′57″ W 63.80 feet; thence S 85°09′00″ W 12.91 feet to the West lien of said lot; thence N 02°42′44″ W 60.04 feet along said West lot line; thence N 85°09′00″ E 10.67 feet; thence along a curve to the right 76.10 feet, said curve having a radius of 180.00 feet, a central angle 24°13′19″, and a chord bearing S 85°54′29″ E 75.53 feet to the East line of said lot and the Point of Beginning; Also Beginning at a point distant S 02°42′47″ E 112,86 feet long the East line of said lot from the Northeast corner of said lot; thence continuing S 02°42′47″ E 79.03 feet along said lot line to the Southeast corner of said lot and the North right of way line of Tull Court (60 feet wide); thence S 87°17′20″ W 75.0 feet along said South lot line and said right of way line to the Southwest corner of said lot; thence N 02°42′44″ W 46.67 feet long the West line of said lot; thence along a curve of the left 81.73 feet, said curve having a radius of 655.00 feet, a central angle of 07°08′58″, and a chord bearing N 63°57′03″ E 81.68 feet to the East line of said lot and the Point of Beginning.

Said acquisition contains 9,241 square feet, or 0.21 of an acre, more or less.

A Grading Permit being a part of Lot 12 of “Supervisor's Plat No. 59” being a part of the Southwest ¼ of Section 18, T3N, R9E, Waterford Township, Oakland County, Michigan, and a replat of Lot 18 of “Supervisor's Plat No. 36” of part of the Southwest ¼ of Section 18, T3N, R9E, Waterford Township, Oakland County, Michigan, as recorded in Liber 72 of Plats, Page 10, Oakland County Records, described as follows: Beginning at the Northeast corner of said lot; thence S02°42′47″ E 25.91 feet along the East line of said lot; thence along a curve to the left 76.10 feet, said curve having a radius of 180.00 feet, a central angle of 24°13′19″, and a chord bearing N85°54′29″ W 75.53 feet; thence S85°09′00″ W 10.67 feet to the West line of said lot; thence N02°42′44″ W 23.70 feet along said lot line; thence S87°34′40″ E 75.30 feet to the Northeast corner of said lot; thence S87°34′40″ E 75.30 feet to the Northeast corner of said lot and the Point of Beginning; Also Beginning at a point S02°42′47″ E 91.18 feet along the East line of said lot from the Northeast corner of said lot; thence continuing S02°42′47″ E 21.68 feet long said lot line; thence along a curve to the left 81.73 feet, said curve having a radius of 655.00 feet, a central angle of 07°08′58″ and a chord bearing S63°57′03″ W 81.68 feet to the West line of said lot; thence N02°42′44″ W 68.21 feet along said lot line; thence N85°09′00″ E 12.91 feet; thence long a curve to the right 64.58 feet, said curve having a radius of 120.00 feet, a central angle of 30°49′59″, and a chord bearing S79°25′57″ E 63.80 feet to the East line of said lot and Point of Beginning.

Said permit contains 5,403 square feet, or 0.12 of an acre more or less.

Parcel 134 (Lot 13)

A Right of Way Acquisition being a part of Lot 13 of “Supervisor's Plat No. 59” being a part of the Southwest ¼ of Section 18, T3N, R9E, Waterford Township, Oakland County, Michigan, and replat of Lot 18 of “Supervisor's Plat No. 36” of part of the Southwest ¼ of Section 18, T3N, R9E, Waterford Township, Oakland County, Michigan, as recorded in Liber 72 of Plats, Page 10, Oakland County Records, described as follows: Beginning at a point distant S02°42′44″ E 23.70 feet along the East line of said lot from the Northeast corner of said lot; thence continuing S02°42′44″ E 60.04 feet along the East line of said lot; thence S85°09′00″ W 75.05 feet to the West line of said lot; thence N02°42′42″ W 60.04 feet along said lot line; thence N85°09′00″ E 75.05 feet to the East line of said lot and the Point of Beginning; also Beginning at a point distant S02°42′44″ E 151.95 feet along the East line of said lot from the Northeast corner of said lot; thence continuing S02°42′44″ E 46.67 feet along the East line of said lot the Southeast corner of said lot and the North right of way line of Tull Court (60 feet wide); thence S87°17′20″ W 75.00 feet along the South line of said lot and said right of way line to the Southwest corner of said lot; thence N02°42′42″ E 18.63 feet along West line of said lot; thence along a curve to the right 65.45 feet, said curve having a radius of 805.00 feet, a central angle of 04°39′30″, and a chord bearing N66°28′41″ E 65.43 feet; thence along a curve to the left 14.65 feet, said curve having a radius of 655.00 feet, a central angle of 01°16′53″, and a chord bearing N68°09′59″ E 14.65 feet to the East line of said lot and the Point of Beginning.

Said acquisition contains 6,995 square feet, or 0.16 of an acre, more or less.

A Grading Permit being a part of Lot 13 of “Supervisor's Plat No. 59” being a part of the Southwest ¼ of Section 18, T3N, R9E, Waterford Township, Oakland County, Michigan, and a replat of Lot 18 of “Supervisor's Plat No. 36” of part of the Southwest ¼ of Section 18, T3N, R9E, Waterford Township, Oakland County, Michigan, as recorded in Liber 72 of Plats, Page 10, Oakland County Records, described as follows: Beginning at the Northeast corner of said lot; thence S02°42′44″ E 23.70 feet along East line of said lot; thence S85°09′00″ W 75.05 feet to the West line of said lot; thence N02°42′42″ W 33.24 feet along said lot line the Northwest corner of said lot; thence S87°34′40″ E 75.30 feet to the Northeast corner of said lot and the Point of Beginning; Also Beginning at a point distant S02°42′44″ E 83.74 feet along the East line of said lot from the Northeast corner of said lot; thence continuing S02°42′44″ E 68.21 feet along said lot line; thence along a curve to the right 14.65 feet, said curve having a radius of 655.00 feet, a central angle of 01°16′53″, and a chord bearing S68D09′59″ W 14.65 feet; thence along a curve to the left 65.45 feet, said curve having a radius of 805.00 feet, a central angle of 04°39′30″, and a chord bearing S66°28′41″ W 65.43 feet to the West line of said lot; thence N02°42′42″ W 93.45 feet; thence N85°09′00″ 75.05 feet to the East line of said lot and the Point of Beginning.

Said permit contains 8,155 square feet, or 0.19 an acre, more or less.

Parcel 135 (Lot 14)

A Right of Way Acquisition being a part of Lot 14 of “Supervisor's Plat No. 59” being a part of the Southeast ¼ of Section 18, T3N, R9E, Waterford Township, Oakland County, Michigan, and a replat of Lot 18 of “Supervisor's Plat No. 36” of part of the Southwest ¼ of Section 18, T3N R9E, Waterford Township, Oakland County, Michigan, as recorded in Liber 72 of Plats, Page 10, Oakland County Records, described as follows: Beginning at a point distant S02°42′42″ E 33.24 feet along the East line of said lot from the Northeeast corner of said Lot; thence continuing S02°42′42″ E 60.04 feet along said lot line; thence S85°09′00″ W 75.05 feet to the West line of said lot, thence S02°42′40″ W 60.04 feet along said lot line; thence N85°09′00″ E 75.05 feet to the East line of said lot and the Point of Beginning; Also beginning at a point S02°42′42″ E 186.73 feet along the East line of said lot from the Northeast corner of said lot; thence continuing S02°42′42″ E 18.63 feet along said lot line to the Southeast corner of said lot and the North right of way of Tull Court (60 feet wide); thence S87°17′20″ W 40.46 feet along said South line and said right of way; thence along a curve to the right 44.55 feet, said curve having a radius of 805.00 feet, a central angle of 03°10′14″, and a chord bearing N62°33′49″ E 44.54 feet to the East line of said lot and the Point of Beginning.

Said acquisition contains 4,889 square feet, or 0.11 of an acre, more or less.

A Grading Permit being a part of lot 14 of “Supervisor's Plat No. 59” being a part of the Southwest ¼ of Section 18, T3N, R9E, Waterford Township, Oakland County, Michigan, and a replat of Lot 18 of “Supervisor's Plat No. 36” of part of the Southwest ¼ of Section 18, T3N, R9E, Waterford Township, Oakland County, Michigan, as recorded in Liber 72 of Plats, Page 10, Oakland County Records, described as follows: Beginning at the Northeast corner of said lot; thence S02°42′42″ E 33.24 feet along east line of said lot; thence S85°09′00″ W 75.05 feet to the West line of said lot; thence N02°42′40″ W 42.78 feet along said lot line to the Northwest corner of said lot; thence S87°34′40″ E 75.30 fet along North line of said lot to the Northeast corner of said lot and the Point of Beginning. Also beginning at a point distant S02°42′42″ E 186.73 feet along the East line of said lot from the Northeast corner of said lot; thence along a curve to the left 44.56 feet, said curve having a radius of 805.00 feet, a central angle of 13°10′14″, and a chord bearing S62°33′49″ W 44.54 feet to the South line of said lot and the North right of way line of Tull Court (60 feet wide); thence S87°17′20″ W 34.54 feet along said lot line and said right of way line to the Southwest corner of said lot; thence N02°42′40″ W 109.38 feet along the West line of said lot; thence N85°09′00″ E 75.05 feet to the East line of said lot and the Point of Beginning.

Said permit contains 10,766 square feet, or 0.25 of an acre, more or less.

Parcel 136 (Lot 15—West)

A Right Of Way Acquisition being a part of the West ½ Lot 15 of “Supervisor's Plat No. 59” being a part of the Southwest ¼ of Section 18, T3N, R9E, Waterford Township, Oakland County, Michigan, and a replat of Lot 18 of “Supervisor's Plat No. 136” of part of the Southwest ¼ of Section 18, T3N, R9E, Waterford Township, Oakland County, Michigan, as recorded in Liber 72 of Plats, Page 10, Oakland County Records, described as follows: Beginning at a point distant S 0°45′00″ E 60.55 feet along the West line of said lot and subdivision line from the Northwest corner of said lot and subdivision corner; thence N 85°09′00″ E 68.86 feet to the East property line; thence S O3°45′14″ E 60.01 feet along said property line; thence S 85°09′00″ W 67.82 feet to the West line of said lot and subdivision line; thence N 04°45′00″ W 60.00 feet along said line to the Point Of Beginning; Also Beginning at a point distant S 04°45′00″ E feet along the West line of said lot and N 87°17′20″ E 62.68 feet along the South line of said lot from the Northwest corner of said lot; thence along a curve to the right 2.74 feet, said curve having a radius of 805.00 feet, a central angle of 00°11′42″, and a chord bearing N 52°39′32″ E 2.74 feet to the east property line; thence S 03°45′14″ E 1.56 feet along said property line to the Southeast corner of said property; thence S 87°17′20″ W 2.28 feet along the South line of said lot to the Point of Beginning.

Said acquisition contains 4,110 square feet, or 0.09 of an acre, more or less.

A Grading Permit being a part of the West ½ Lot 15 of “Supervisor's Plat No. 59” being a part of the Southwest ¼ of Section 18, T3N, R9E, Waterford Township, Oakland County, Michigan, and a replat of Lot 18 of “Supervisor's Plat No. 36” of part of the Southwest ¼ of Section 18, T3N, R9E, Waterford Township, Oakland County, Michigan, as recorded in Liber 72 of Plats, Page 10, Oakland County Records, described as follows: Beginning at the Northwest corner of said lot and subdivision; thence S 87°34′40″ E 70.31 feet along said lot line to the Northeast corner of said property; thence S 03°45′14″ E 51.66 feet along the East property line; thence S 85°09′00″ W 68.86 feet to the West lot line; thence N 04°45′00″ W 60.55 feet along said lot line to the Northwest corner of said lot and the Point of Beginning; Also Beginning at a point distant S 04°45′00″ E 120.55 feet along the West lot line from the Northwest corner of said lot; thence N 85°09′00″ E 67.82 feet to the East property line; thence S 03°45′14″ E 165.21 feet along said property line; thence along a curve to the left 2.74 feet, said curve having a radius of 805.00 feet, a central angle of 00°11′42″, and a chord bearing S 52°39′32″ W 2.74 feet to the South lien of said lot; thence S 87°17′20″ W 62.68 feet along said lot line to the Southwest corner of said lot thence N 04°45′00″ W 164.31 feet along the West line of said lot to the Point Of Beginning.

Said permit contains 14,868 square feet, or 0.34 of an acre, more or less.

Parcel 223 (Lot 15—East)

A Right Of Way Acquisition being a part of the East ½ Lot 15 of “Supervisor's Plat No. 59” being a part of the Southwest ¼ of Section 18, T3N, R9E, Waterford Township, Oakland County, Michigan, and a replat of Lot 18 of “Supervisor Plat No. 36” of part of the Southwest ¼ of Section 18, T3N, R9E, Waterford Township, Oakland County, Michigan, as recorded in Liber 72 of Plats, Page 10, Oakland County Records, described as follows: Beginning at a point distant S02°42′40″ E 42.78 feet along the East line of said lot from the Northeast corner of said Lot; thence continuing S02°42′40″ E 60.04 feet along said lot line; thence S85°09′00″ W 68.04 feet to the West property line; thence N03°45′14″ W 60.01 feet along the West property line; thence N85°09′00″ E 69.14 feet to the East line of said lot and the Point of Beginning; Also beginning at a point distant S02°42′40″ E 230.23 feet along the East line of said lot from the Northeast corner of said lot; thence continuing S02°42′40″ E 41.87 feet along said lot line to the Southeast corner of said lot; thence S87°17′20″ W 64.96 feet along the South line of said lot to the Southwest corner of said property; thence N03°45′14″ W 1.56 feet along West property line; thence along a curve to the right 76.51 feet, said curve having a radius of 805.00 feet, a central angle of 05°26′44″, and a chord bearing N55°28′44″ E 76.48 feet to the East line of said lot and the Point of Beginning.

Said acquisition contains 5,573 square feet, or 0.13 of an acre, more or less.

A Grading Permit being a part of the East ½ Lot 15 of “Supervisor's Plat No. 59” being a part of the Southwest ¼ of Section 18, T3N, R9E, Waterford Township, Oakland County, Michigan, and a replat of Lot 18 of “Supervisor's Plat No. 36” of part of the Southwest ¼ of Section 18, T3N, R9E, Waterford Township, Oakland County, Michigan, as recorded in Liber 72 of Plats, Page 10, Oakland County Records, described as follows: Beginning at the Northeast corner of said lot; thence S02°42′40″ E 42.78 feet along the East line of said lot from the Northeast corner of said lot; thence S85°09′00″ W 69.14 feet to the West property line; thence N03°45′14″ W 51.66 feet along said property line; thence S87°34′40″ E 75.31 feet along the North line of said lot to the Northeast corner of said lot; Also Beginning at a point distant S02°42′40″ E 102.82 feet along the East line of said lot from the Northeast corner of said lot; thence continuing S02°42′40″ E 127.41 feet along said lot line; thence along a curve to the left 76.51 feet , said curve having a radius of 805.00 feet, a central angle 05°26′44″, and a chord bearing S55°28′44″ W 76.48 feet to the West line of said property; thence N03°45′14″ W 165.21 feet along said property line; thence N85°09′00″ E 68.04 feet to the east line of said lot and the Point of Beginning.

Said permit contains 12,967 square feet, or 0.30 of an acre, more or less.

Parcel 224 (Lot 8—Partial)

A Right Of Way Acquisition being a part of Lot 8 of “Supervisor's Plat No. 59” being a part of the Southwest ¼ of Section 18, T3N, R9E, Waterford Township, Oakland County, Michigan, and a replat of Lot 18 of “Supervisor's Plat No. 36” of part of the Southwest ¼ of Section 18, T3N, R9E, Waterford Township, Oakland County, Michigan, as recorded in Liber 72 of Plats, Page 10, Oakland County Records, described as follows: Beginning at a point distant N 02°42′55″ W 49.83 feet along the West line of and the Southwest corner of said lot; thence continuing N 02°42′55″ W 121.84 feet along said lot line to the Northwest corner of said lot; thence S87°34″E 75.30 feet along the North line of said lot to the Northeast corner of said lot; thence S02°42′58″E 42.45 feet along the East line of said lot; thence along a curve to the right 104.49, said curve having a radius of 805.00 feet, a central angle of 07°26′14″ and a chord bearing S43°11′41″W 104.42 feet to the West line of said lot and the Point Of Beginning.

Said acquisition contains 6,279 square feet, or 0.14 of an acre, more or less.

Parcel 225 (Lot 9—Partial)

A Right Of Acquisition being a part of Lot 9 of “Supervisor's Plat No. 59” being a part of the Southwest ¼ of Section 18, T3N, R9E, Waterford Township, Oakland County, Michigan, and a replat of Lot 18 of “Supervisor's Plat No. 36” of part of the Southwest ¼ of Section 18, T3N, R9E, Waterford Township, Oakland County, Michigan, as recorded in Liber 72 of Plats, Page 10, Oakland County Records, described as follows: Beginning at a point distant S 87°17′20″ W 65.04 feet along the Northerly right of way line of Tull Court (60 feet wide); thence continuing S 87°17′20″ W 9.96 feet along said right of way line to the Southwest corner of said lot; thence N 02°42′52″ W 178.41 feet along the West line of said lot to the Northwest corner of said lot; thence S 87°34′40″ E 75.30 feet to the Northeast corner of said lot; thence S 02°42′55″ E 121.84 feet; thence along a curve to the right 81.98 feet, said curve having a radius of 805.00 feet, a central angle of 05°50′05″, and a chord bearing S 49°50′50″ W 81.94 to the North right of way line of said Tull Court and the point Of Beginning.

Said acquisition contains 11,564 square feet, or 0.27 of an acre, more or less.

Parcel 230 (Lot 20—Partial)

A Right Of Way Acquisition being a part of Lot 20 of “Supervisor's Plat No. 59” being a part of the Southwest ¼ of Section 18, T3N, R9E, Waterford Township, Oakland County, Michigan, and a replat of Lot 18 of “Supervisor's Plat No. 36” of part of the Southwest ¼ of Section 18, T3N, R9E, Waterford Township, Oakland County, Michigan, as recorded in Liber 72 of Plats, Page 10, Oakland County Records, described as follows: Beginning at a point distant S 87°17′20″ W 58.50 feet along the north line of said lot and the South right of way line of Tull Court (60 feet wide) from the Northeast corner of said lot; thence along a curve to the right 18.28 feet, said curve having a radius of 805.00 feet, a central angle of 01°18′04″, and a chord bearing S 61°52′07″ W 18.28 feet to the West line of said lot; thence N 02°40′57″ W 7.84 feet along said lot line to the Northwest corner of said lot; thence N 87°17′20″ E 16.50 feet along the North line of said lot and said right of way line of Tull Court to the Point Of Beginning.

Said acquisition contains 65 square feet, or 0.001 of an acre, more or less.

Parcel 231 (Lot 19—Partial)

A Right Of Way Acquisition being a part of Lot 19 of “Supervisor's Plat No. 59” being a part of the Southwest ¼ of Section 18, T3N, R9E, Waterford Township, Oakland County, Michigan, and a replat of Lot 18 of “Supervisor's Plat No. 36” of part of the Southwest ¼ of Section 18, T3N, R9E, Waterford Township, Oakland County, Michigan, as recorded in Liber 72 of Plats, Page 10, Oakland County Records, described as follows: Beginning at a point distant N 02°41′00″ W 266.17 feet along the West line of said lot from the Southwest corner of said lot; thence continuing N 02°41′00″ W 37.99 feet along said lot line to the Northwest corner of said lot and the South right of way line of Tull Court (60 feet wide); thence N 87°17′20″ E 75.00 feet along the North line of said lot and said right of way line to the Northeast corner of said lot; thence S 02°40′57″ E 7.84 feet along the East line of said lot; thence along a curve to the left 80.87 feet, said curve having a radius of 805.00 feet, a central angle of 05°45′22″, and a chord bearing S 65°23′50″ W 80.84 feet to the West line of said lot and the Point of Beginning.

Said acquisition contains 1,773 square feet, or 0.04 of an acre, more or less.

A Drainage Easement being a part of Lot 19 of “Supervisor's Plat No. 59” being a part of the Southwest ¼ of Section 18, T3N, R9E, Waterford Township, Oakland County, Michigan, and a replat of Lot 18 of “Supervisor's Plat No. 36” of part of the Southwest ¼ of Section 18, T3N, R9E, Waterford Township, Oakland County, Michigan, as recorded in Liber 72 of Plats, Page 10, Oakland County Records, described as follows: Beginning at a point distant N 02°41′00″ W 70.19 feet along the West line of said lot from the Southwest corner of said lot; thence continuing N 02°41′00″ W 50.14 feet along said lot line; thence N 83°05′15″ E 75.20 feet to the East line of said lot; thence S 02°40′57″ W 50.14 feet along said lot line; thence S 83°05′15″ W 75.20 feet to the West line of said lot and the Point of Beginning.

Said permit contains 3,760 square feet, or 0.09 of an acre, more or less.

Parcel 232 (Lot 18—Partial)

A Right Of Way Acquisition being a part of Lot 18 of “Supervisor's Plat No. 59” being a part of the Southwest ¼ of Section 18, T3N, R9E, Waterford Township, Oakland County, Michigan, and a replat of Lot 18 of “Supervisor's Plat No. 36” of part of the Southwest ¼ of Section 18, T3N, R9E, Waterford Township, Oakland County, Michigan, as recorded in Liber 72 of Plats, Page 10, Oakland County Records, described as follows: Beginning at a point distant N02°41′03″ W 242.27 feet along the West line of said lot from the Southwest corner of said lot; thence continuing N02°41′03″ W 67.40 feet along said lot line to the Northwest corner of said lot and the South right of way line of Tull Court (60 feet wide); thence N87°17′20″ E 75.00 feet along the North line of said lot and said right of way line to the Northeast corner of said lot; thence S02°41′00″ E 37.99 feet along the East line of said lot; thence along a curve to the left 73.15 feet, said curve having a radius of 655.00 feet, a central angle of 06°23′55″, and a chord bearing S65°36′28″ W 73.11 feet to the West line of said lot and the point of Beginning.

Said acquisition contains 3,888 square feet, or 0.09 of an acre, more or less.

A Drainage Easement being a part of Lot 18 of “Supervisor's Plat No. 59” being a part of the Southwest ¼ of Section 18, T3N, R9E, Waterford Township, Oakland County, Michigan, and a replat of Lot 18 of “Supervisor's Plat No. 36” of part of the Southwest ¼ of Section 18, T3N, R9E, Waterford Township, Oakland County, Michigan, as recorded in Liber 72 of Plats, Page 10, Oakland County Records, described as follows: Beginning at a point distant N02°41′03″ W 50.14 feet along the West line of said lot from the Southwest corner of said lot; thence continuing N02°41′03″ W 192.13 feet along said lot time; thence along a curve to the right 73.15 feet, said curve having a radius of 655.00 feet, a central angle of 06°23′55″, and a chord bearing N65°36′28″ E 73.11 feet to the East line of said lot; thence S02°41′00″ E 145.84 feet along said lot line; thence S83°05′15″ W 75.20 feet to the West line of said lot and the Point Of Beginning.

Said permit contains 15,370 square feet, or 0.35 of an acre, more of less.

Parcel 233 (Lot 17—Partial)

A Right Of Way Acquisition being a part of Lot 17 of “Supervisor's Plat No. 59” being a part of the Southwest ¼ of Section 18, T3N, R9E, Waterford Township, Oakland County, Michigan, and a replat of Lot 18 of “Supervisor's Plat No. 36” of part of the Southwest ¼ of Section 18, T3N, R9E, Waterford Township, Oakland County, Michigan, as recorded in Liber 72 of Plats, Page 10, Oakland County Records, described as follows: Beginning at a point distant N02°41′06″ W 206.84 feet along the West line of said lot from the Southwest corner of said lot; thence continuing N0°41′06″ W 108.34 feet along said lot line to the Northwest corner of said lot and the South right of way line of Tull Court (60 feet wide); thence N87°17′20″ E 75.00 feet along the North line of said lot and said right of way line to the Northeast corner of said lot; thence S02°41′03″ E 67.40 feet along the East line of said lot; thence along a curve to the left 85.52 feet, said curve having a radius of 655.00 feet, a central angle of 07°28′51″, and a chord bearing S58°40′04″ W 85.46 feet to the West line of said lot and the Point Of Beginning.

Said acquisition contains 6,511 square feet, or 0.15 of an acre, more or less.

A Drainage Easement being a part of Lot 17 of “Supervisor's Plat No. 59” being a part of the Southwest ¼ of Section 18, T3N, R9E, Waterford township, Oakland County, Michigan, as recorded in Liber 72 of Plats, Page 10, Oakland County Records, described as follows: Beginning at a point distant N O2°241′06″ W 50.14 feet along the West line of said lot from the Southwest corner of said lot; thence continuing N O2°241′06″ 156.70 feet along said lot line; thence along a curve to the right 85.52 feet, said curve having a radius of 655.00 feet, a central angle of 07°28′51″, and a chord bearing N 58°40′04″ E 85.46 feet to the East line of said lot; thence S 02°41′03″ E 192.13 feet along said lot line; thence S 83°05′15″ W 75.20 feet to the West line of said lot and the Point Of Beginning.

Said permit contains 13,160 square feet, or 0.30 of an acre, more or less.

Total acres to be released are 3.981, more or less.

Dated: Issued in Romulus, Michigan, on May 17, 2005.
Irene R. Porter,
Manager, Detroit Airports District Office, FAA, Great Lakes Region.

[FR Doc. 05-11116 Filed 6-2-05; 8:45 am]

BILLING CODE 4910-13-M